DEPARTMENT OF TRANSPORTATION

Saint Lawrence Seaway Development Corporation

33 CFR Part 401

[Docket No. SLSDC 2005-20085]

RIN 2135-AA20

Seaway Regulations and Rules: Periodic Update, Various Categories

AGENCY: Saint Lawrence Seaway Development Corporation, DOT.

ACTION: Final rule.

SUMMARY: The Saint Lawrence Seaway Development Corporation (SLSDC) and the St. Lawrence Seaway Management Corporation (SLSMC) of Canada, under international agreement, jointly publish and presently administer the St. Lawrence Seaway Regulations and Rules (Practices and Procedures in Canada) in their respective jurisdictions. Under agreement with the SLSMC, the SLSDC is amending the joint regulations by updating the Seaway Regulations and Rules in various categories. The changes will update the following sections of the Regulation and Rules: Condition of Vessels; Preclearance and Security for Tolls; Seaway Navigation; Dangerous Cargo; Toll Assessment and Payment; Information and Reports; and General. These amendments are necessary to take account of updated procedures and/or technology and will enhance the safety of transits through the Seaway.

DATES: This rule is effective on April 18, 2005.

FOR FURTHER INFORMATION CONTACT: Craig H. Middlebrook, Acting Chief Counsel, Saint Lawrence Seaway Development Corporation, 400 Seventh Street, SW., Washington, DC 20590, (202) 366-0091.

SUPPLEMENTARY INFORMATION: The Saint Lawrence Seaway Development Corporation (SLSDC) and the St. Lawrence Seaway Management Corporation (SLSMC) of Canada, under international agreement, jointly publish and presently administer the St. Lawrence Seaway Regulations and Rules (Practices and Procedures in Canada) in their respective jurisdictions. A Notice of Proposed Rulemaking was published on January 25, 2005 (70 FR 3495). In that notice, the SLSDC proposed changes that would update the following sections of the Regulation and Rules: Condition of Vessels; Preclearance and Security for Tolls; Seaway Navigation; Dangerous Cargo; Toll Assessment and Payment; Information and Reports; and General. Many of these changes are to clarify existing requirements in the regulations. Where new requirements or regulations are being adopted, an explanation for such a change is provided below. Interested parties have been afforded an opportunity to comment. One comment was received seeking clarification of two of the proposed amendments. No comments in opposition were received.

Regulatory Notices: Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

The SLSDC is amending the joint regulations pertaining to the Condition of Vessels. Among the proposed changes include new requirements for certain types of vessels. For example, the SLSDC is adding a new subsection to § 401.3, “Maximum vessel dimensions”, to notify ships with a beam greater than 23.20 m that they may be subject to transit restrictions and/or delays during periods of ice cover. Larger beamed vessels often require special handling through the locks under ice conditions and this amendment will adequately notify such vessels that they may be subject to special restrictions or delays as a result of these special precautions.

Under § 401.4, “Maximum length and weight”, the SLSDC is adding language that would clarify that a transit would be through the Seaway Locks. Also, under § 401.6, “Markings”, the SLSDC is adding additional language that clarifies the type of marking needed for vessels with a bulbous bow that extends forward beyond its stem head.

The SLSDC is amending § 401.7, “Fenders”, to require that permanent fenders be installed on vessels where any structural part of a ship protrudes so as to endanger Seaway installations. From the SLSDC's experience, permanent fenders provide greater protection than portable fenders and this amendment would enhance the safety of lock transits.

The SLSDC is also amending § 401.7 to allow for a one-transit use of a portable fender, pursuant to special approval. The SLSDC recognizes that certain vessels may only need to transit the Seaway once and that requiring them to install permanent fenders may be burdensome. Also, the SLSDC is adding a new subsection to § 401.7 that would allow ships of unusual design to use temporary or permanent fenders not greater than 30 cm in thickness, subject to special approval. Through this new subsection, the SLSDC recognizes that for certain vessels that may need to transit the locks infrequently, or only once, the requirement for permanent fenders may be burdensome.

Under § 401.8, “Landing Booms”, the SLSDC is adding a new subsection that would require that a ship's crew shall be adequately trained in the use of landing booms. For ships of more than 50 m in overall length transiting the Seaway, they are to be equipped with landing booms, and it is essential for safety that their crews be trained in the proper use of this equipment. The SLSDC is also adding a new subsection requiring vessels not equipped with landing booms to use the Seaway's tie-up service. The SLSDC recognizes that some vessels may not be equipped with landing booms and it provides this service for such vessels. Requiring them to use this service will help ensure that ships transit the Seaway safely.

The one comment we received regarding the changes to this section sought clarification of the term “adequately trained” as it relates to the use of landing booms. The commenter stated that clarifying this term would allow it and other shipowners to understand the Seaway's intent in implementing this requirement, which would assist them in complying with the provision. In response to this comment, we note that if a vessel is equipped with landing booms, the booms will be inspected as part of the regular Seaway Inspection, just as any other piece of deck equipment is subject to inspection. Shipowners are responsible for ensuring that their crews know how to use safely any piece of deck equipment, including landing booms. Seaway inspectors may, under certain conditions, ask for a demonstration in the proper use of the landing booms. The vessel's Master will be asked by Seaway inspectors if the crew is competent in the use of the landing booms.

The SLSDC is amending § 401.9, “Radiotelephone equipment”, to clarify that VHF (very high frequency) transmission positions are designated by channel numbers instead of by MHz (megahertz) frequencies.

Under § 401.10, “Mooring lines”, the SLSDC is adding language that provides greater specificity on the type of mooring lines already required. Also, the SLSDC is adding a requirement that such lines be certified and that a test certificate shall be available on board for inspection for each mooring line. Moreover, the SLSDC is adding a new subsection that would not permit the use of nylon lines. Mooring lines are a vital equipment component used in the transit of vessels through a lock. The SLSDC believes that adding these requirements will help ensure the integrity and safety of these lines. In addition, the SLSDC has updated the table under this section to note the necessary breaking strengths for various mooring lines in terms of Metric Tons (M/T) instead of kiloNewtons (kN). This change will simply adopt the currently accepted unit of measurement for breaking strength.

The SLSDC is amending § 401.11, “Fairleads”, to require that mooring lines and synthetic hawsers, where permitted, shall pass through not more than three inboard rollers that are fixed in place and equipped with horns to ensure that lines will not slip off when slackened. The SLSDC believes such a change is necessary to increase the safe handling of mooring lines.

Under § 401.12, “Minimum requirements—mooring lines and fairleads”, the SLSDC is amending the mooring line and fairlead requirements for various ship sizes. The first category of ship size would be for vessels of 80 meters or less instead of 40 meters; the next category would be for ships of more than 80 meters but not more than 100 meters, instead of between 40 and 60 meters; the next category would now be for vessels between 100 meters and 120 meters; and the final category would be for ships of more than 120 meters in length. For each of these categories, additional requirements are being added that will increase the safe handling of vessels through the locks. The table under this section is also amended to reflect theses changes.

The one comment we received concerning this section sought to confirm that a mooring line arrangement that has already been approved by the Seaway authorities under the previous requirements will be acceptable to allow transit through the Seaway. After receiving the comment, the SLSDC and the SLSMC have reviewed the matter, and we conclude that mooring line arrangements previously approved would be acceptable. All vessels that have not had their mooring line arrangements previously approved by the Seaway authorities, however, will be required to comply with the new requirements.

The SLSDC is amending § 401.13, “Hand lines”, by adding language that requires that the ends of hand lines shall be back spliced or tapered and not be weighted or have knotted ends. These changes will greatly increase the likelihood that the Seaway's line handlers will be able to work safely with a ship's hand lines and not be injured in the process of tying up a vessel.

Under § 401.14, “Anchor marking buoys”, the SLSDC is amending this section to give ship owners more flexibility in making their anchor marking buoys highly visible. The current section requires that anchor buoys must be orange.

For § 401.16, “Propeller direction alarms”, and § 401.17, “Pitch indicators and alarms”, the SLSDC is amending these sections by also making them applicable to integrated tug and barge or articulated tug and barge units of combined 1,600 gross registered tons or more. This change reflects the reality that tug and barge units of this size now use the Seaway with greater frequency. Requiring that such units possess this equipment ensures their safe operation through the Seaway.

Under § 401.19, “Disposal and discharge systems”, the SLSDC is adding language that clarifies which pertinent laws and regulations are Canadian and which are U.S. In addition, the SLSDC is adding a requirement that would prohibit the burning of shipboard garbage in certain areas of the Seaway.

The SLSDC is amending § 401.20, “Automatic Identification System”, by adding a provision that would require that the Minimum Keyboard Display (MKD) be located as close as possible to the primary conning position as possible and be visible. The Seaway has been using the Automatic Identification System as part of its Traffic Management System since 2002, and based on this experience, it has been determined that the MKD must be located close to the primary conning position and be visible to be most effective in ensuring the safe navigation of the vessel.

The SLSDC is amending the joint regulations regarding the Preclearance and Security for Tolls. Among the amendments are changes to § 401.22, “Preclearance of vessels”, that would change the minimum size of a pleasure craft not needing to apply for Preclearance from 317.5 tonnes to 300 gross registered tonnes (GRT) and would change the minimum size from 317.5 tonnes to 300 gross registered tonnage under which a non-commercial ship cannot apply for Preclearance and must transit as a pleasure craft. These slight increases in the minimum ship size are needed to bring these criteria in line with Great Lakes Pilotage Authority requirements (300 GRT).

Under § 401.24, “Application for Preclearance”, the SLSDC is amending the section by allowing ship representatives to obtain an application directly from the SLSDC and SLSMC joint Web site (www.greatlakes-seaway.com). Allowing users to download the Preclearance applications will make it easier for Seaway users to obtain these documents.

Under the SLSDC's regulations pertaining to Seaway Navigation, the SLSDC is making several amendments. For example, under § 401.30, “Ballast water and trim”, the SLSDC is adding a requirement that no ship shall be accepted for transit whose trim by the stern exceeds 45.7 dm (decimeters), except under certain circumstances. This would limit the length of a vessel permitted to transit the Seaway in terms of its trim by the stern. The upper limit permitted would be 45.7 dm, beyond which a ship's trim could potentially interfere with the proper functioning of the lock. This specificity regarding trim has been added to the regulations to provide greater clarity to users to facilitate their planned transit through the Seaway. The change still allows for vessels exceeding this limit to transit under exceptional circumstances.

Under § 401.34, “Vessels in tow”, language is being added that would make it clear that non-self-propelled vessels, i.e. vessels in tow, are required to be securely tied to an adequate tug or tugs. The number of non-self-propelled vessels, such as those used in integrated tug/barges, transiting the Seaway is increasing. This change to the existing language of § 401.34 ensures that such vessels are safely secured to their power units and thereby enhance overall Seaway safety.

To enhance the safety of the navigation of vessels in certain areas of the Seaway, a requirement is being added to § 401.35, “Navigation underway”, to have a helmsman present in the wheelhouse of the ship in addition to either the master or certified deck officer. Having two qualified personnel in the wheelhouse will enhance the ability of the vessel to transit without incident in those areas of the Seaway where navigation is more difficult.

Under § 401.37 “Mooring at tie-up walls”, the proposal would delete the requirement that only Canadian or U.S. Coast Guard approved life jackets are permissible. This requirement is being deleted because not only these two countries have approval requirements for their lifejackets.

Under § 401.39, “Preparing mooring lines for passing through”, new language will state that winches must be capable of paying out at a minimum speed of 46 m (meters) per minute. The current language allows for winches paying out at a lower rate to be used as long as sufficient lengths of mooring lines are drawn off the winch drums and laid out on the deck. Such a procedure is no longer deemed optimally safe and requiring all winches to have this minimum pay out speed will maximize ship and line handling safety.

§ 401.42, “Passing hand lines”, paragraph (b), which prohibits the use of knotted or weighted hand lines in a lock chamber, is deleted. Listing this prohibition here is redundant, as it would now be listed earlier in § 401.13(c).

To aid those leaving or boarding a vessel, a requirement under § 401.57, “Disembarking or boarding”, is being added that would require a member of the crew to assist persons disembarking or boarding vessels. Having a crew member assist in such instances greatly reduces the risk of injury.

Under § 401.58, “Pleasure craft scheduling”, an additional requirement is being added that requires every pleasure craft planning to transit to arrange for the transit by contacting the lock personnel using the direct-line phone at a pleasure craft dock and to make the lockage fee payment by purchasing a ticket using the automated ticket dispensers located at pleasure craft docks. This new requirement will aid in the scheduling of pleasure craft transits and simplify the collection of fees.

The SLSDC is making several amendments to the joint regulations pertaining to Dangerous Cargo. Among these is a change to § 401.68, “Explosives permit”, to require a permit for all ships carrying any quantity of explosives with a mass explosive risk, up to a maximum of 2 tonnes, under IMO Class 1, Division 1.1 and 1.5.

Under § 401.72, “Reporting—explosive and hazardous cargo vessels”, additional reporting requirements for ships carrying grain have been added. Specifically, every ship carrying grain that is under fumigation must now declare to the nearest traffic control center the nature of the fumigant as well as which cargo holds are affected. Also, all ships carrying grain under fumigation would be required to file with the SLSMC, prior to transiting, a copy of its current load plan. These changes will increase the ability of the Seaway to transit ships carrying grain safely.

Also § 401.72 now requires that the load plan should include the approximate total weight in metric tonnes or total volume in cubic meters. This added information will help ensure that the correct information is provided.

An additional requirement being added to § 401.72 requires tankers in ballast to report the previous cargo of each cargo hold on a model of the current load plan for loaded vessels. Such information will assist the Seaway in ensuring the safe transit of such vessels through the waterway. Moreover, a midships cross-section showing the double bottom tanks and ballast side tanks for tankers is now required.

Under § 401.72, the Seaway will now distribute a ship's load plan to all other Seaway Traffic Control Centers, and if any changes in stowage are made to the plan, including loading and discharging during a transit, the ship must submit an updated plan before departing from any port in the Seaway. Having current information of this type and ensuring that it is disseminated to all Vessel Traffic Control Centers will enhance the Seaway's ability to handle such ships safely in all sectors of the waterway.

Finally under § 401.72, a new subsection would put users on notice that failure to comply with these requirements may result in unnecessary delays or transit refusal.

Under the SLSDC's regulations pertaining to Toll Assessment and Payment, the SLSDC is making several amendments. For example, under § 401.74, “Transit declaration”, the Seaway Transit Declaration Form is now available only through the SLSMC's Cornwall office, and not the SLSDC's Massena office. The SLSMC is already the entity that receives these forms, and thus limiting the source of this form to the SLSMC's location in Cornwall will facilitate the Seaway's ability to keep these forms current and to collect them efficiently.

In § 401.75, “Payment of tolls”, additional language would require pleasure craft to transit each Canadian lock with prepaid tickets purchased in Canadian funds using automated credit card ticket dispensers located at pleasure craft docks. The use of these new dispensers will aid in the efficient transiting of pleasure craft by eliminating the need to collect fees in hard currency. At U.S. locks, the fee is paid in U.S. funds or the pre-established equivalent in Canadian funds.

The SLSDC is making several amendments to the joint regulations pertaining to Information and Reports. This includes a change to § 401.79, “Advance notice of arrival, vessels requiring inspection”, that increases the requirement for advance notice of arrival from 24 hours prior to all transits to 96 hours. This change is needed to comply with recent changes to the Canadian and U.S. laws requiring such notice.

A change to § 401.81, “Reporting an accident”, would add language that all ships involved in an accident or a dangerous occurrence, must report the incident prior to departing the Seaway system. This language should remove any ambiguity about when such reporting is required.

Under the SLSDC's regulations pertaining to General matters, the SLSDC is making several amendments. Under § 401.93, “Access to Seaway property”, the reference to “Shore Traffic Regulations” is replaced with “Seaway Property Regulations” to reflect the correct name of the document.

In § 401.94, “Keeping copies of regulations”, an additional requirement is being added that would require ships transiting the Seaway to store permanently a duplicate set of the ship's Fire Control Plans in a prominently marked and weather-tight enclosure outside the deckhouse. Storing this document in this way will assist emergency response personnel who may be called on board to respond to a fire.

Under § 401.95, “Compliance with regulations”, an additional requirement has been added that would require the master or owner of a ship to ensure that all requirements of the Joint Practices and Procedures as well as Seaway Notices applicable to that ship are complied with. Adding Seaway Notices clarifies the responsibilities of the master and ship owner.

Regulatory Evaluation

This regulation involves a foreign affairs function of the United States and therefore Executive Order 12866 does not apply and evaluation under the Department of Transportation's Regulatory Policies and Procedures is not required.

Regulatory Flexibility Act Determination

I certify this regulation will not have a significant economic impact on a substantial number of small entities. The St. Lawrence Seaway Regulations and Rules primarily relate to commercial users of the Seaway, the vast majority of whom are foreign vessel operators. Therefore, any resulting costs will be borne mostly by foreign vessels.

Environmental Impact

This regulation does not require an environmental impact statement under the National Environmental Policy Act (49 U.S.C. 4321, et reg.) because it is not a major federal action significantly affecting the quality of the human environment.

Federalism

The Corporation has analyzed this rule under the principles and criteria in Executive Order 13132, dated August 4, 1999, and has determined that it does not have sufficient federalism implications to warrant a Federalism Assessment.

Unfunded Mandates

The Corporation has analyzed this rule under Title II of the Unfunded Mandates Reform Act of 1995 (Pub. L. 104-4, 109 Stat. 48) and determined that it does not impose unfunded mandates on State, local, and tribal governments and the private sector requiring a written statement of economic and regulatory alternatives.

Paperwork Reduction Act

This regulation has been analyzed under the Paperwork Reduction Act of 1995 and does not contain new or modified information collection requirements subject to the Office of Management and Budget review.

List of Subjects in 33 CFR Part 401

Hazardous materials transportation, Navigation (water), Penalties, Radio, Reporting and recordkeeping requirements, Vessels, Waterways.

Accordingly, the Saint Lawrence Seaway Development Corporation is amending 33 CFR part 401, Seaway Regulations and Rules, as follows:

PART 401—SEAWAY REGULATIONS AND RULES

Subpart A—Regulations

1. The authority citation for subpart A of part 401 continues to read as follows:

Authority: 33 U.S.C. 983(a) and 984(a)(4), as amended; 49 CFR 1.52, unless otherwise noted.

2. In § 401.3, a new paragraph (f) is added to read as follows:

§ 401.3 Maximum vessel dimensions.

* * * * *

(f) Vessels with beams greater than 23.20 m may be subject to transit restrictions and/or delays during periods of ice cover.

* * * * *

3. Section 401.4 is revised to read as follows:

§ 401.4 Maximum length and weight.

No vessel of less than 6 m in overall length or 900 kg in weight shall transit through Seaway Locks.

4. In § 401.6, paragraph (c) is revised to read as follows:

§ 401.6 Markings.

* * * * *

(c) Where a vessel's bulbous bow extends forward beyond her stem head, a symbol of a bulbous bow shall be marked above the vessel's summer load line draught mark in addition to a + symbol followed by a number indicating the total length in meters by which the bulbous bow projects beyond the stem.

* * * * *

5. In § 401.7, paragraphs (a) introductory text and (a)(2) introductory text are revised, and paragraphs (b) and (c) are added to read as follows:

§ 401.7 Fenders.

(a) Where any structural part of a vessel protrudes so as to endanger Seaway installations, the vessel shall be equipped with permanent fenders—

* * * * *

(2) On special application, portable fenders, other than rope hawsers, may be allowed for a single transit if the portable fenders are—

* * * * *

(b) Tires shall not be used as fenders.

(c) On special application, ships of unusual design may be permitted to utilize temporary or permanent fenders not greater than 30 cm in thickness.

6. Section 401.8 is revised to read as follows:

§ 401.8 Landing booms.

(a) Vessels of more than 50 m in overall length shall be equipped with at least one adequate landing boom on each side.

(b) Vessels' crews shall be adequately trained in the use of landing booms.

(c) Vessels not equipped with landing booms must use the Seaway's tie-up service at approach walls.

7. In § 401.9, paragraph (b)(2) is revised to read as follows:

§ 401.9 Radiotelephone Equipment.

* * * * *

(b) * * *

(2) Be fitted to operate from the conning position in the wheelhouse and to communicate on channels 11, 12, 13, 14, 17 and 66a.

* * * * *

8. In § 401.10, paragraph (a)(3) and the table at the end of the section are revised, and paragraphs (a)(6) and (d) are added to read as follows:

§ 401.10 Mooring lines.

* * * * *

(a) * * *

(3) Be fitted with a hand spliced eye or Flemish type mechanical spliced eye not less than 2.4 m long;

* * * * *

(6) Be certified and a test certificate for each mooring line shall be available on board for inspection.

* * * * *

(d) Notwithstanding paragraphs (a) through (c) of this section, nylon line is not permitted.

Table
Overall length of vessels | Length of mooring lines (m) | Breaking strength (M/T)
40 m or more but not more than 60 m | 110 | 10
More than 60 m but not more than 90 m | 110 | 15
More than 90 m but not more than 120 m | 110 | 20
More than 120 m but not more than 180 m | 110 | 28
More than 180 m but not more than 222.5 m | 110 | 35

* * * * *

9. In § 401.11, the introductory text and paragraph (b) are revised to read as follows:

§ 401.11 Fairleads.

Mooring lines, and synthetic hawsers where permitted, shall:

* * * * *

(b) Pass through not more than three inboard rollers that are fixed in place and equipped with horns to ensure that leins will not slip off when slackened and provided with free-running sheaves or rollers; and

* * * * *

10. In § 401.12, paragraphs (a)(1), (a)(2), (a)(3), (a)(4) introductory text, (a)(4)(i), (b), and the table at the end of the section are revised to read as follows:

§ 401.12 Minimum requirements—mooring lines and fairleads.

(a) * * *

(1) Vessels of 80 m or less in overall length shall have at least three synthetic hawsers, two of which shall be independently power operated and one of which shall be hand held:

(i) One synthetic hawser shall lead forward from the break of the bow and one synthetic hawser shall lead astern from the quarter and be independently power operated by winches, capstans or windlasses and lead through closed chocks or fairleads acceptable to the Manager and the Corporation; and

(ii) One synthetic hawser shall be hand held and lead astern from the break of the bow through closed chocks to suitable mooring bitts on deck.

(2) Vessels of more than 80 m but not more than 100 m in overall length shall have four synthetic hawsers, of which three shall be independently power operated by winches, capstans or windlasses and one being hand held. All lines shall be led through closed chocks or fairleads acceptable to the Manager and the Corporation, of which three mooring lines:

(i) One shall lead forward and one shall lead astern from the break of the bow and one lead astern from the quarter and all three lines shall be independently power operated; and

(ii) One shall lead forward from the quarter and be hand held;

(3) Vessels of more than 100 m but not more than 120 m in overall length shall have four mooring lines or synthetic hawsers independently power operated by winches, capstan or windlasses as follows:

(i) One mooring line shall lead forward and one mooring line shall lead astern from the break of the bow and shall be independently power operated by the main drums of adequate power operated winches, and

(ii) One synthetic hawser shall lead forward and one synthetic hawser shall lead astern from the quarter and shall be independently power operated by either winches, capstan or windlasses;

(4) Vessels of more than 120 m in overall length shall have four mooring lines, two of which shall lead from the break of the bow and two of which shall lead from the quarter, and;

(i) All shall be independently power operated by the main drums of adequate power operated winches and not by capstans or windlasses; and

* * * * *

(b) The following table sets out the requirements for the location of fairleads for ships of 80 m or more in overall length:

Table
Overall length of ships | For mooring lines Nos. 1 and 2 | For mooring lines Nos. 3 and 4
80 m or more but not more than 120 m | Between 12 m & 30 m from the stem | Between 15 m & 35 from the stern.
More than 120 m but not more than 150 m | Between 12 m & 35 m from the stem | Between 15 m & 40 from the stern.
More than 150 m but not more than 180 m | Between 15 m & 40 m from the stem | Between 20 m & 45 from the stern.
More than 180 m but not more than 222.5 m | Between 20 m & 50 m from the stem | Between 20 m & 50 from the stern.

* * * * *

11. Section 401.13 is revised to read as follows:

§ 401.13 Hand lines.

Hand lines shall:

(a) Be made of material acceptable to the Manager and the Corporation;

(b) Be of uniform thickness and have a diameter of not less than 15 mm and not more than 17 mm and a minimum length of 30 m. The ends of the lines shall be back spliced or tapered; and

(c) Not be weighted or have knotted ends.

12. Section 401.14 is revised to read as follows:

§ 401.14 Anchor marking buoys.

A highly visible anchor marking buoy of a type approved by the Manager and the Corporation, fitted with 22 m of suitable line, shall be secured directly to each anchor so that the buoy will mark the location of the anchor when the anchor is dropped.

13. In § 401.16, the introductory text is revised to read as follows:

§ 401.16 Propeller direction alarms.

Every vessel of 1600 gross registered tons or integrated tug and barge or articulated tug and barge unit of combined 1600 gross registered tons or more shall be equipped with—

* * * * *

14. In § 401.17, the introductory text is revised to read as follows:

§ 401.17 Pitch indicators and alarms.

Every vessel of 1600 gross registered tons or integrated tug and barge or articulated tug and barge unit of combined 1600 gross registered tons or more equipped with a variable pitch propeller shall be equipped with—

* * * * *

15. In § 401.19, paragraphs (a) and (b)(2) are revised, and paragraph (d) is added to read as follows:

§ 401.19 Disposal and discharge systems.

(a) Every vessel not equipped with containers for ordure shall be equipped with a sewage disposal system enabling compliance with the Canadian Garbage Pollution Prevention Regulations, the Canadian Great Lakes Sewage Pollution Prevention Regulations, the U.S. Clean Water Act, and the U.S. River and Harbor Act, and amendments thereto.

(b) * * *

(2) Retained on board in covered, leak-proof containers, until such time as it can be disposed of in accordance with the provisions of the Canadian Garbage Pollution Prevention Regulations, the Canadian Great Lakes Sewage Pollution Prevention Regulations, the U.S. Clean Water Act, and the U.S. River and Harbor Act, and amendments thereto.

* * * * *

(d) Burning of shipboard garbage is prohibited between CIP 2 & Cardinal and between CIP 15 and CIP 16.

* * * * *

16. In § 401.20, paragraphs (b)(5), (b)(6), and (b)(7) are redesignated as paragraphs (b)(6), (b)(7), and (b)(8), and a new paragraph (b)(5) is added to read as follows:

§ 401.20 Automatic Identification System.

* * * * *

(b) * * *

(5) The Minimum Keyboard Display (MKD) shall be located as close as possible to the primary conning position and be visible;

* * * * *

17. In § 401.22, paragraphs (a) and (c) are revised to read as follows:

§ 401.22 Preclearance of vessels.

(a) No vessel, other than a pleasure craft 300 gross registered tonnage or less, shall transit until an application for preclearance has been made, pursuant to § 401.24, to the Manager by the vessel's representative and the application has been approved by the Corporation or the Manager pursuant to § 401.25.

* * * * *

(c) A non-commercial vessel of 300 gross registered tonnage or less cannot apply for preclearance status and must transit as a pleasure craft.

* * * * *

18. Section 401.24 is revised to read as follows:

§ 401.24 Application for preclearance.

The representative of a vessel may, on a preclearance form (3 copies) obtained from the Manager, Cornwall, Ontario, or downloaded from the St. Lawrence Seaway Web site (http://www.greatlakes-seaway.com), apply for preclearance, giving particulars of the ownership, liability insurance and physical characteristics of the vessel and guaranteeing payment of the fees that may be incurred by the vessel.

19. In § 401.30, paragraphs (c) and (d) are redesignated as paragraphs (d) and (e), newly designated paragraph (e) introductory text and (e)(2) are revised, and a new paragraph (c) is added to read as follows:

§ 401.30 Ballast water and trim.

* * * * *

(c) No vessel, other than under exceptional circumstances and with special permission, shall be accepted for transit whose trim by the stern exceeds 45.7 dm.

* * * * *

(e) To obtain clearance to transit the Seaway:

* * * * *

(2) Every other vessel entering the Seaway that operates within the Great Lakes and the Seaway must agree to comply with the “Voluntary Management Practices to Reduce the Transfer of Aquatic Nuisance Species Within the Great Lakes by U.S. and Canadian Domestic Shipping” of the Lake Carriers Association and Canadian Shipowners Association dated January 26, 2001, while operating anywhere within the Great Lakes and the Seaway. A copy of the “Code of the Best Practices for Ballast Water Management” and of the “Voluntary Management Practices to Reduce the Transfer of Aquatic Nuisance Species Within the Great Lakes by U.S. and Canadian Domestic Shipping” can be found under “Navigation”, Notice #6, 2002, on www.greatlakes-seaway.com.

20. Section 401.34 is revised to read as follows:

§ 401.34 Vessels in tow.

No vessel that is not self-propelled (including but not limited to tug/tows and/or deadship/tows) shall be underway in any Seaway waters unless it is securely tied to an adequate tug or tugs, in accordance with special instructions given by the Manager or the Corporation pursuant to § 401.33.

21. In § 401.35, paragraph (c) is revised to read as follows:

§ 401.35 Navigation underway.

* * * * *

(c) Man the wheelhouse of the vessel at all times by either the master or certified deck officer, and a helmsman, and;

* * * * *

22. In § 401.37, paragraph (b) is revised to read as follows:

§ 401.37 Mooring at tie-up walls.

* * * * *

(b) Crew members being put ashore on landing booms and handling mooring lines on tie-up walls shall wear approved life jackets.

* * * * *

23. In § 401.39, the introductory text and paragraph (a) are revised to read as follows:

§ 401.39 Preparing mooring lines for passing through.

Before a vessel enters a lock:

(a) Winches shall be capable of paying out at a minimum speed of 46 m per minute; and

* * * * *

24. In § 401.42, paragraph (a)(4) is revised, paragraph (b) is removed, and paragraph (c) is redesignated as paragraph (b) to read as follows:

§ 401.42 Passing hand lines.

(a) * * *

(4) Upbound vessels of overall length in excess of 218 m in Locks 4 and 5, Welland Canal, shall secure the hand lien to the eye of the No. 1 mooring wire by means of a bowline.

* * * * *

25. Section 401.57 is amended by adding a new paragraph (c) to read as follows:

§ 401.57 Disembarking or boarding.

* * * * *

(c) Persons disembarking or boarding shall be assisted by a member of the vessel's crew.

26. Section 401.58 is revised to read as follows:

§ 401.58 Pleasure craft scheduling.

(a) The transit of pleasure craft shall be scheduled by the vessel traffic controller or the officer in charge of a lock and may be delayed so as to avoid interference with other vessels; and

(b) Every pleasure craft seeking to transit shall stop at a pleasure craft dock and arrange for transit by contacting the lock personnel using the direct-line phone and make the lockage fee payment by purchasing a ticket using the automated ticket dispensers.

27. In § 401.68, paragraphs (a)(1) and (a)(4) are revised to read as follows:

§ 401.68 Explosives permit.

(a) * * *

(1) For all vessels carrying any quantity of explosives with a mass explosive risk, up to a maximum of 2 tonnes (IMO Class 1, Division 1.1 and 1.5);

* * * * *

(4) For all vessels carrying more than 100 tonnes and up to a maximum of 500 tonnes of safety explosives and shop goods (IMO Class 1, Divisions 1.4).

* * * * *

28. In § 401.72, paragraphs (a), (e) introductory text, (e)(2), (f), and (h) are revised, and paragraphs (e)(6) and (i) are added to read as follows:

§ 401.72 Reporting—explosive and hazardous cargo vessels.

(a) Every explosive vessel or hazardous cargo vessel shall, when reporting information related to cargo as required by § 401.64(a), report the nature and tonnage of its explosive or hazardous cargo where applicable. Every vessel carrying grain which is under fumigation shall declare to the nearest traffic control center the nature of the fumigant, its properties and cargo holds affected.

* * * * *

(e) Every vessel carrying dangerous cargo, as defined in § 401.66, and all tankers carrying liquid cargo in bulk, and all vessels carrying grain under fumigation shall, prior to transiting any part of the Seaway, file with the Manager a copy of the current load plan that includes the following information:

* * * * *

(2) The approximate total weight in metric tonnes or total volume in cubic meters and the stowage location of each commodity;

* * * * *

(6) Tankers in ballast shall report the previous cargo of each cargo hold on a plan as described in this paragraph (e).

(f) For tankers, the information required under this section shall be detailed on a plan showing the general layout of the tanks, and a midships cross-section showing the double bottom tanks and ballast side tanks.

* * * * *

(h) Every vessel shall submit its load plan to the nearest Seaway Traffic Control Center from which it will be distributed to all other Seaway Traffic Control Centers. Any changes in stowage, including loading and discharging during a transit, the ship shall submit an updated plan before departing from any port between St. Lambert and Long Point.

(i) Failure to comply with the requirements in this section may result in unnecessary delays or transit refusal.

29. In § 401.74, paragraph (a) is revised to read as follows:

§ 401.74 Transit declaration.

(a) A Seaway Transit Declaration Form (Cargo and Passenger) shall be forwarded to the Manager by the representative of a ship, for each ship that has an approved preclearance except non-cargo ships, within fourteen days after the vessel enters the Seaway on any upbound or downbound transit. The form may be obtained from The St. Lawrence Seaway Management Corporation, 202 Pitt Street, Cornwall, Ontario, K6J 3P7.

* * * * *

30. In § 401.75, paragraph (b) is revised to read as follows:

§ 401.75 Payment of tolls.

* * * * *

(b) Tolls, established by agreement between Canada and the United States, and known as the St. Lawrence Seaway Schedule of Tolls, shall be paid by pleasure crafts with prepaid tickets purchased in Canadian funds using credit card ticket dispensers located at pleasure craft docks. At U.S. locks, the fee is paid in U.S. funds or the pre-established equivalent in Canadian funds.

31. Section 401.79 is revised to read as follows:

§ 401.79 Advance notice of arrival, vessels requiring inspection.

Every vessel shall provide at least 96 hours notice of arrival to the nearest Seaway station prior to all transits or in case reinspection of the ship is required.

32. In § 401.81, paragraph (a) is revised to read as follows:

§ 401.81 Reporting an accident.

(a) Where a vessel on the Seaway is involved in an accident or a dangerous occurrence, the master of the vessel shall report the accident or occurrence, pursuant to the requirements of the Transportation Safety Board Regulations, to the nearest Seaway or Canadian or U.S. Coast Guard radio or traffic stations, as soon as possible and prior to departing the Seaway system.

* * * * *

33. In § 401.93, paragraph (b) is revised to read as follows:

§ 401.93 Access to Seaway property.

* * * * *

(b) Except as authorized by an officer or by the Seaway Property Regulations or its successors, no person shall enter upon any land or structure of the Manager or the Corporation or swim in any Seaway canal or lock area.

34. Section 401.94 is revised to read as follows:

§ 401.94 Keeping copies of regulations.

(a) A copy of these Regulations (subpart A of part 401), a copy of the vessel's latest Ship Inspection Report, and Seaway Notices for the current navigation year shall be kept on board every vessel in transit.

(b) Onboard every vessel transiting the Seaway a duplicated set of the Ship's Fire Control Plans shall be permanently stored in a prominently marked weather-tight enclosure outside the deckhouse for the assistance of shore-side fire-fighting personnel.

35. Section 401.95 is revised to read as follows:

§ 401.95 Compliance with regulations.

The master or owner of a vessel shall ensure that all requirements of these Regulations and Seaway Notices applicable to that vessel are complied with.

Issued at Washington, DC on March 11, 2005.
Saint Lawrence Seaway Development Corporation.
Albert S. Jacquez,
Administrator.

[FR Doc. 05-5268 Filed 3-16-05; 8:45 am]

BILLING CODE 4910-61-P